DEPARTMENT OF JUSTICE

Drug Enforcement Administration

[Docket No. DEA-610]

Bulk Manufacturer of Controlled Substances Application: SpecGx LLC

Correction

In notice document 2020-10601, appearing on pages 29741 through 29742 in the issue of Monday, May 18, 2020 make the following correction.

On page 29741, in the third column, in the DATES section, on the last line, “July 17, 2025” should read “July 17, 2020”.

[FR Doc. C1-2020-10601 Filed 6-10-20; 8:45 am]

BILLING CODE 1300-01-D